DEPARTMENT OF JUSTICE

Notice of Lodging of Proposed Modification of the Consent Decree Entered in; United States et al. v. Illinois Power Company and Dynegy Midwest Generation

Notice is hereby given that on March 20, 2006, the United States lodged a Proposed Consent Decree Modification in the United States District Court for the Southern District of Illinois in the matter captioned United States et al v. Illinois Power Company and Dynegy Midwest Generation, Inc., (Civil Action No. 99-833-MJR). This proposed Modifications was jointly agreed by the United States, the State of Illinois, the four citizen groups co-plaintiffs—the American Bottom Conservancy, Health and Environmental Justice—St. Louse, Inc., Illinois Stewardship Alliance, and the Prairie Rivers Network—and Dynegy Midwest Generation.

The proposed modification affects Section VI of the Consent Decree, PM Emission Reductions and Controls, which establishes a variety of requirements for Dynegy Midwest Generation, Inc. (“DMG”) concerning particulate matter emissions at identified units in the DMG System. Under the Consent Decree, DMG is required to operate certain electric generating units so as to achieve and maintain an emissions rate of “not greater than 0.030 lb/mmBTU” or to undertake an alternative procedure defined in the Decree as a “Pollution Control Equipment Upgrade Analysis.” Consent Decree ¶ 86. According to the proposed modification, the deadline for each of the two Hennepin Units set forth in Paragraph 86 will be changed to December 31, 2008, and the language in Paragraph 86 following the table, as well as Paragraph 88 in its entirety, will be deleted. By this change, among other things, rather than requiring the first Hennepin unit to meet the specified emission rate in 2006 and the second Hennepin unit to meet that rate in 2010, the Consent Decree will instead require DMG to ensure that both Hennepin units meet 0.030 lbs/mmBTU emissions rate by December 31, 2008.

The Department of Justice will receive for a period of thirty (30) days from the date of this publication comments relating to the above-described Proposed Consent Decree Modification. Comments should be addressed to the Assistant Attorney General, Environment and Natural Resources Division, P.O. Box 7611, U.S. Department of Justice, Washington, DC 20044-7611, and should refer to United States v. Illinois Power Company and Dynegy Midwest Generation, Inc., D.J. Ref. No. 90-5-2-1-06837.

During the public comment period, the proposed modification to the Consent Decree may also be examined on the following Department of Justice Web site, http://www.usdoj.gov/enrd/open.html. A copy of the proposed modifications may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $1.50 (25 cents per page reproduction cost) payable to the U.S. Treasury.

Thomas A. Mariani, Jr.,
Assistant Chief, Environmental Enforcement Section, Environmental and Natural Resources Division.

[FR Doc. 06-4371 Filed 5-10-06; 8:45am]

BILLING CODE 4410-15-M